DEPARTMENT OF HEALTH AND HUMAN SERVICES

Centers for Disease Control and Prevention

Disease, Disability, and Injury Prevention and Control Special Emphasis Panel: Community-Based Participatory Prevention Research, Program Announcement #02003

In accordance with section 10(a)(2) of the Federal Advisory Committee Act (Pub. L. 92-463), the Centers for Disease Control and Prevention (CDC) announces the following meeting:

Name: Disease, Disability, and Injury Prevention and Control Special Emphasis Panel (SEP): Community-Based Participatory Prevention Research, Program Announcement #02003.

Times and Dates: 5 p.m.-6 p.m., June 24, 2002 (Open); 6:15 p.m.-8 p.m., June 24, 2002 (Closed); 8 a.m.-5 p.m., June 25, 2002 (Closed); 8 a.m.-4 p.m., June 26, 2002 (Closed).

Place: Holiday Inn Select, 130 Clairmont Avenue, Decatur, Georgia.

Status: Portions of the meeting will be closed to the public in accordance with provisions set forth in section 552b(c) (4) and (6), Title 5 U.S.C., and the Determination of the Director, Management Analysis and Services Office, CDC, pursuant to Public Law 92-463.

Matters to Be Discussed: The meeting will include the review, discussion, and evaluation of applications received in response to PA# 02003.

For Further Information Contact: Theodore J. Meinhardt, Associate Director for Management and Operations, 4770 Buford Highway, MS-K38, Atlanta, Georgia 30341, 770-488-2505.

The Director, Management Analysis and Services Office has been delegated the authority to sign Federal Register notices pertaining to announcements of meetings and other committee management activities, for both the Centers for Disease Control and Prevention and the Agency for Toxic Substances and Disease Registry.

Dated: June 3, 2002.
Joe E. Salter,
Acting Director, Management Analysis and Services Office, Centers for Disease Control and Prevention (CDC).

[FR Doc. 02-14324 Filed 6-6-02; 8:45 am]

BILLING CODE 4163-18-P